NATIONAL ARCHIVES AND RECORDS ADMINISTRATION

[NARA-2014-034]

Advisory Committee on the Records of Congress; Meeting

AGENCY: National Archives and Records Administration.

ACTION: Notice of Meeting.

SUMMARY: In accordance with the Federal Advisory Committee Act, the National Archives and Records Administration (NARA) announces a meeting of the Advisory Committee on the Records of Congress. The committee advises NARA on the full range of programs, policies, and plans for the Center for Legislative Archives in the Office of Legislative Archives, Presidential Libraries, and Museum Services (LPM).

This meeting will take place at the Capitol Visitor Center.

DATES: The meeting will be held on June 16, 2014 from 10:00 a.m. to 11:30 a.m.

ADDRESSES: Capitol Visitor Center, Congressional Room South.

SUPPLEMENTARY INFORMATION:

Agenda

(1) Chair's Opening Remarks—Clerk of the U.S. House of Representatives

(2) Recognition of Co-chair—Secretary of the U.S. Senate

(3) Recognition of the Archivist of the United States

(4) Approval of the minutes of the last meeting

(5) Senate Archivist's report—Karen Paul

(6) House Archivist's report—Robin Reeder

(7) Center Update—Richard Hunt

(8) Other current issues and new business

The meeting is open to the public.

FOR FURTHER INFORMATION CONTACT: Contacts: For further information, contact the Center for Legislative Archives (202) 357-5350 Sharon Fitzpatrick, sharon.fitzpatrick@nara.gov.

Dated: June 2, 2014.
Patrice Little Murray,
Committee Management Officer.

[FR Doc. 2014-13073 Filed 6-3-14; 8:45 am]

BILLING CODE 7515-01-P